DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On June 11, 2018, OFAC determined that the property and interests in property subject to U.S. jurisdiction of the following persons are blocked under the relevant sanctions authority listed below.

Individuals

1. CHIRIKOV, Oleg Sergeyevich (a.k.a. CHIRIKOV, Oleg); DOB 26 Nov 1984; Passport 715896188 (Russia) (individual) [CYBER2] (Linked To: DIVETECHNOSERVICES).

Designated pursuant to section 1(a)(iii)(C) of E.O. 13694, as amended, for having acted for or on behalf of, DIVETECHNOSERVICES, a person whose property and interests in property are blocked pursuant to E.O. 13694.

2. KAGANSKIY, Vladimir Yakovlevich (a.k.a. KAGANSKIY, Vladimir), Russia; DOB 23 Dec 1957; Gender Male; Passport 726105847 (Russia) (individual) [CYBER2] (Linked To: DIVETECHNOSERVICES).

Designated pursuant to section 1(a)(iii)(C) of E.O. 13694, as amended, for having acted for or on behalf of, DIVETECHNOSERVICES, a person whose property and interests in property are blocked pursuant to E.O. 13694.

3. TRIBUN, Aleksandr Lvovich (Cyrillic: ТРИБУН, Александр Львович) (a.k.a. TRIBUN, Aleksandr; a.k.a. TRIBUN, Alexandr Lvovich), Russia; DOB 29 Aug 1969; Passport 7195142631 (Russia) (individual) [CYBER2] (Linked To: DIVETECHNOSERVICES).

Designated pursuant to section 1(a)(iii)(C) of E.O. 13694, as amended, for having acted for or on behalf of, DIVETECHNOSERVICES, a person whose property and interests in property are blocked pursuant to E.O. 13694.

Entities

1. DIGITAL SECURITY (a.k.a. DIGITAL SECURITY RESEARCH GROUP; a.k.a. OOO DIGITAL SECURITY; a.k.a. “DSEC”), Saint Petersburg, Russia; Moscow, Russia [CYBER2] (Linked To: FEDERAL SECURITY SERVICE).

Designated pursuant to section 1(a)(iii)(B) of E.O. 13694, as amended, for having materially assisted, sponsored or provided financial, material, or technological support for, or goods or services to or in support of, the FEDERAL SECURITY SERVICE, a person whose property and interests in property are blocked pursuant to E.O. 13694.

2. EMBEDI, Russia; Herzliya, Israel [CYBER2] (Linked To: DIGITAL SECURITY).

Designated pursuant to section 1(a)(iii)(C) of E.O. 13694, as amended, for being owned or controlled by, directly or indirectly, DIGITAL SECURITY, a person whose property and interests in property are blocked pursuant to E.O. 13694.

3. ERPSCAN (Cyrillic: ERPCKAH), Russia; Amsterdam, Netherlands; Prague, Czech Republic; Tel Aviv, Israel [CYBER2] (Linked To: DIGITAL SECURITY).

Designated pursuant to section 1(a)(iii)(C) of E.O. 13694, as amended, for being owned or controlled by, directly or indirectly, DIGITAL SECURITY, a person whose property and interests in property are blocked pursuant to E.O. 13694.

4. KVANT SCIENTIFIC RESEARCH INSTITUTE (a.k.a. NAUCHNO-ISSLEDOVATELSKIY INSTITUT KVANT; a.k.a. NII KVANT; a.k.a. RUSSIAN FEDERAL STATE UNITARY ENTERPRISE SCIENTIFIC RESEARCH INSTITUTE KVANT), Khovrino District, Moscow, Russia; St. Petersburg, Russia [CYBER2] [CAATSA—RUSSIA] (Linked To: FEDERAL SECURITY SERVICE).

Designated pursuant to section 224(a)(1)(B) of the Countering America's Adversaries Through Sanctions Act, (CAATSA), Public Law 115-44, for being owned or controlled by, directly or indirectly, the FEDERAL SECURITY SERVICE, a person designated under section 224(a)(1)(A) of CAATSA.

Also designated pursuant to section 1(a)(iii)(C) of E.O. 13694, as amended, for being owned or controlled by, directly or indirectly, the FEDERAL SECURITY SERVICE, a person whose property and interests in property are blocked pursuant to E.O. 13694.

Also designated pursuant to section 1(a)(iii)(B) of E.O. 13694, as amended, for having materially assisted, sponsored, or provided financial, material, or technological support for, or goods or services to or in support of, the FEDERAL SECURITY SERVICE, a person whose property and interests in property are blocked pursuant to E.O. 13694.

5. DIVETECHNOSERVICES (a.k.a. DAIVTEKHNOSERVIS, OOO; a.k.a. DAYVTEKHNOSERVIS; a.k.a. DIVE TECHNO SERVICES), d. 18 korp. 2 litera A, ul. Zheleznovodskaya, St. Petersburg 199155, Russia [CYBER2] (Linked To: FEDERAL SECURITY SERVICE).

Designated pursuant to section 1(a)(iii)(B) of E.O. 13694, as amended, for having materially assisted, sponsored, or provided financial, material, or technological support for, or goods or services to or in support of, the FEDERAL SECURITY SERVICE, a person whose property and interests in property are blocked pursuant to E.O. 13694.

Dated: June 11, 2018.
Andrea Gacki,
Acting Director, Office of Foreign Assets Control.

[FR Doc. 2018-12784 Filed 6-13-18; 8:45 am]

BILLING CODE 4810-AL-P